DEPARTMENT OF THE INTERIOR

National Park Service

[2253-665]

Notice of Intent To Repatriate Cultural Items: American Museum of Natural History, New York, NY

AGENCY: National Park Service, Interior.

ACTION: Notice.

SUMMARY: The American Museum of Natural History, in consultation with the appropriate Indian tribes, has determined that cultural items meet the definition of unassociated funerary objects and that repatriation to the Indian tribe stated below may occur if no additional claimants come forward. Representatives of any Indian tribe that believes itself to be culturally affiliated with the cultural items may contact the American Museum of Natural History.

DATES: Representatives of any Indian tribe that believes it has a cultural affiliation with the cultural items should contact the American Museum of Natural History at the address below by March 28, 2012.

ADDRESSES: Nell Murphy, Director of Cultural Resources, American Museum of Natural History, Central Park West at 79th Street, New York, NY 10024, telephone (212) 769-5837.

SUPPLEMENTARY INFORMATION: Notice is here given in accordance with the Native American Graves Protection and Repatriation Act (NAGPRA), 25 U.S.C. 3005, of the intent to repatriate cultural items in the possession of the American Museum of Natural History that meet the definition of unassociated funerary objects under 25 U.S.C. 3001.

This notice is published as part of the National Park Service's administrative responsibilities under NAGPRA, 25 U.S.C. 3003(d)(3). The determinations in this notice are the sole responsibility of the museum, institution or Federal agency that has control of the Native American cultural items. The National Park Service is not responsible for the determinations in this notice.

History and Description of the Cultural Items

The 34 cultural items include: a headdress on a spruce frame decorated with swan down, white eagle tail feathers, and a plume of red-fox tail, that is attached to a wooden mask painted black and green, representing a Tlingit spirit; a headdress on a spruce frame, covered with swan down, white eagle tail feathers, and a plume of brown bear fur, that is attached to a wooden mask painted black and green, representing the spirit of a dead Tlingit; a headdress on a spruce frame covered with swan down, white eagle tail feathers, and plaits of human hair, that is attached to a wooden mask representing a dying man; a headdress on a spruce frame, covered with swan down, white eagle tail feathers, red fox fur, and plaits of human hair, that is attached to a wooden mask representing the spirit of a dead Tlingit; a headdress made of hawk skin and attached to a wooden mask carved to represent a mosquito; a headdress made of deer skin, ptarmigan skin, and ornamented in porcupine quill work and mountain goat horns; a hat made of skin with a bark cover and a carved raven's head; a headdress of deer skin ornamented with eagle tails and sea lion whiskers; a skin drum framed in wood and metal; a crown composed of mountain goat horns and ermine skins, that is inlaid with haliotis shell; a wooden rattle carved in bird and land otter designs and painted green, red, and black; two wooden rattles ornamented with bird beaks and decorated with eagle down; a wooden dance ornament carved to represent a cockle shell; two bundles of sticks, bone spikes and feathers wrapped around an animal tongue; a bone bracelet ornamented in cuts and lines with a plant fiber fastener; a neck ornament composed of hide and two walrus ivory rings; four ivory charms carved to represent land otters; an ivory charm carved to represent a whale; an ivory charm carved to represent a black fish; an ivory charm carved to represent a halibut; a wooden stick carved to represent a wolf and a bear; a skin waist robe decorated with ivory, bone, deer hooves and brass ornaments; a skin shoulder robe decorated with walrus ivory rings and painted to represent spirits and a dog fish; two string necklaces decorated with bone and ivory pendants; a hair ornament of ivory and bone beads; a stick decorated with deer dew hooves; a headdress consisting of a skin band decorated with swan skin, the neck feathers of a mallard drake, and white eagle tail feathers, attached to carved wooden masks representing the shaman's spirits or guards; and a wooden box decorated with carvings of a bear and a raven.

Museum records and consultation information provided by Kootznoowoo, Incorporated (an Alaska Native Corporation), and the Central Council Tlingit and Haida Indian Tribes of Alaska support the conclusion that these cultural items comprise the shaman's kit of Nolk, a Hutsnuwu Tlingit of the Dakl'aweidi clan, and that they were placed within Nolk's grave house near Chaik Bay at or after the time of his death around 1865. The kit was removed from the grave house by a nephew of Nolk at an unknown date and subsequently acquired by Lieutenant George Thornton Emmons. The Museum purchased these items from Emmons and accessioned them in 1894.

The determination that these items are “unassociated funerary objects” is based on Emmons' catalog entry, consultation information provided by Kootznoowoo, Incorporated, and the Central Council Tlingit and Haida Indian Tribes of Alaska, and other expert opinion, all of which support the conclusion that the items were associated with Nolk's grave house, and were placed with Nolk's remains either at the time of his death or later.

The cultural affiliation of the 34 cultural items is Hutsnuwu Tlingit, as indicated through museum records and consultation with representatives of Kootznoowoo Incorporated, and the Central Council Tlingit and Haida Indian Tribes of Alaska. Chaik Bay lies within the traditional territory of the Hutsnuwu Tlingit. These cultural items were claimed on behalf of the Da_l'aweidi clan.

Determinations Made by the American Museum of Natural History

Officials of the American Museum of Natural History have determined that:

• Pursuant to 25 U.S.C. 3001(3)(B), the 34 cultural items described above are reasonably believed to have been placed with or near individual human remains at the time of death or later as part of the death rite or ceremony and are believed, by a preponderance of the evidence, to have been removed from a specific burial site of a Native American individual.

• Pursuant to 25 U.S.C. 3001(2), there is a relationship of shared group identity that can be reasonably traced between the unassociated funerary objects and the Central Council Tlingit and Haida Indian Tribes of Alaska.

Additional Requestors and Disposition

Representatives of any other Indian tribe that believes itself to be culturally affiliated with the unassociated funerary objects should contact Nell Murphy, Director of Cultural Resources, American Museum of Natural History, Central Park West at 79th Street, New York, NY 10024, telephone (212) 769-5837, before March 28, 2012. Repatriation of the unassociated funerary objects to the Central Council Tlingit and Haida Indian Tribes of Alaska may proceed after that date if no additional claimants come forward.

Dated: February 22, 2012.
Sherry Hutt,
Manager, National NAGPRA Program.

[FR Doc. 2012-4523 Filed 2-24-12; 8:45 am]

BILLING CODE 4312-50-P